DEPARTMENT OF TRANSPORTATION

Federal Aviation Administrtation

[Summary Notice No. PE-2001-25]

Petitions for Exemption; Summary of Dispositions of Petitions Issued

Correction

In notice document 01-7501 beginning on page 16701 in the issue of Tuesday, March 27, 2001, make the following correction:

On page 16702, in the first column, thirteen lines from the bottom “Grant, 03/08/2001” should read “Denial, 03/08/2001”.

[FR Doc. C1-7501 Filed 4-4-01; 8:45 am]

BILLING CODE 1505-01-D